Presidential Determination No. 02-20 of May 30, 2002

Provision of $25.5 Million to Support a Train and Equip

Program in Georgia

Memorandum for the Secretary of State [and] the Secretary of Defense

Pursuant to the authority vested in me by the laws and Constitution of the United States, including sections 614(a)(2) and 506(a)(1) of the Foreign Assistance Act of 1961, as amended, I hereby determine that it is vital to the national security interests of the United States to provide up to $4.5 million in fiscal year 1997 and 1998 Foreign Military Financing Funds for assistance to Georgia under section 23 of the Arms Export Control Act without regard to any provision of law that might otherwise restrict provision of such funds. I further determine that an unforeseen emergency exists requiring immediate military assistance for Georgia that cannot be met under the Arms Control Export Act or any other law, and hereby direct the drawdown of defense articles and services from the stocks of the Department of Defense, and military education and training of the aggregate value of $21 million to meet that emergency requirement. I hereby authorize the furnishing of this assistance.

The Secretary of State is authorized and directed to report this determination to the Congress and to publish it in the Federal Register.

B

THE WHITE HOUSE,

Washington, May 30, 2002.

[FR Doc. 02-14536

Filed 6-6-02; 8:45 am]

Billing code 4710-10-P